ENVIRONMENTAL PROTECTION AGENCY

40 CFR Part 52

[EPA-R07-OAR-2008-0100; FRL-8549-5]

Approval and Promulgation of Implementation Plans; State of Missouri

AGENCY: Environmental Protection Agency (EPA).

ACTION: Proposed rule.

SUMMARY: EPA is proposing a revision to the Missouri State Implementation Plan (SIP) to include the State's recently revised ozone season NOX cap and trade rules for electric generating units (EGUs) and non-electric generating units (Non-EGUs) submitted on May 18, 2007. Two existing rules were revised by the State to allow for the transition into the State's recently adopted ozone season trading rule to meet the requirements of the Clean Air Interstate Rule (CAIR). The ozone season rules, an interstate cap and trade rule for EGUs and Non-EGUs in the eastern one-third of the State and a statewide intrastate trading rule for EGUs, were revised to include language that will rescind their requirements in the year 2009, the year CAIR compliance begins. The CAIR ozone season trading rule is more restrictive than the aforementioned rules, and this action is needed to avoid imposing duplicative requirements for the affected sources in the year 2009 and thereafter.

DATES: Comments on this proposed action must be received in writing by May 2, 2008.

ADDRESSES: Submit your comments, identified by Docket ID No. EPA-R07-OAR-2008-0100, by mail to Michael Jay, Environmental Protection Agency, Air Planning and Development Branch, 901 North 5th Street, Kansas City, Kansas 66101. Comments may also be submitted electronically or through hand delivery/courier by following the detailed instructions in the ADDRESSES section of the direct final rule located in the rules section of this Federal Register.

FOR FURTHER INFORMATION CONTACT: Michael Jay at (913) 551-7460, or by e-mail at jay.michael@epa.gov.

SUPPLEMENTARY INFORMATION: In the final rules section of this Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: March 24, 2008.
John B. Askew,
Regional Administrator, Region 7.

[FR Doc. E8-6661 Filed 4-1-08; 8:45 am]

BILLING CODE 6560-50-P